DEPARTMENT OF HOMELAND SECURITY

Coast Guard

33 CFR Part 165

[Docket Number USCG-2024-0496]

RIN 1625-AA00

Safety Zones; Fourth of July Events for the Los Angles Long Beach Captain of the Port Zone.

AGENCY: Coast Guard, DHS.

ACTION: Temporary final rule.

SUMMARY: The Coast Guard is establishing temporary safety zones around five separate 4th of July firework display platforms. The safety zones will encompass the navigable waters within a 1000-foot radius of the pyrotechnic platforms located offshore in the following locations: Bel Air Bay, Pacific Palisades, CA; Newport Beach, CA; Carnival Cruise Terminal dock, Long Beach, CA; Three Arch Bay, South Laguna, CA, and Two Harbors, Catalina Island, CA. The safety zones are needed to protect personnel, vessels, and the marine environment from potential hazards created by the firework show. Entry of vessels or persons into these zones is prohibited unless specifically authorized by the Captain of the Port, Sector Los Angeles—Long Beach.

DATES: This rule is effective from July 3, 2024, through July 6, 2024, from 08:00 p.m. to 11:00 p.m. during the listed dates and specified locations.

ADDRESSES: To view documents mentioned in this preamble as being available in the docket, go to https://www.regulations.gov, type USCG-2024-0496 in the search box and click “Search.” Next, in the Document Type column, select “Supporting & Related Material.”

FOR FURTHER INFORMATION CONTACT: If you have questions about this rule, call or email LCDR Kevin Kinsella, U.S. Coast Guard Sector Los Angeles—Long Beach; telephone (310) 521-3861, email D11-SMB-SectorLALB-WWM@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

The Coast Guard is issuing this temporary rule under authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule because it would be impracticable to publish a NPRM within the required time frame to ensure publish safety.

Under 5 U.S.C. 553(d)(3), the Coast Guard finds that good cause exists for making this rule effective less than 30 days after publication in the Federal Register. Delaying the effective date of this rule would be impracticable because immediate action is needed to ensure navigational safety amidst the potential safety hazards associated with the event.

III. Legal Authority and Need for Rule

The Coast Guard is issuing this rule under authority in 46 U.S.C. 70034. The Captain of the Port Sector Los Angeles-Long Beach (COTP) has determined that potential hazards associated with the fireworks shows occurring from July 3, 2024 through July 6, 2024 will be a safety concern for anyone within a 1000-foot radius of the pyrotechnics platforms. This rule is needed to protect personnel, vessels, and the marine environment in the navigable waters before, during and after the scheduled firework events within the designated safety zones.

IV. Discussion of the Rule

This rule establishes a safety zone from 8 p.m. until 11 p.m. on July 3, 2024 through July 6, 2024. The safety zones will cover all navigable waters within 1000 feet of the pyrotechnics platforms located in the follow areas on the indicated dates: Bel Air Bay on July 3, 2024 located in position 34°02′08.3″ N/118°32′44.5″ W; Newport Beach on July 4, 2024, located in position 33°35′28.4″ N/117°53′17.8″ W; Long Beach Carnival Cruise Terminal Dock, located in position 33°45′06.8″ N 118°11′13.7″ W; Three Arch Bay on July 5, 2024 located in position 33°29′08.7″/117°44′21.2″ W; and Two Harbors on July 6, 2024, located in position 33°26′45.4″ N/118°29′37.1″ W. The duration of the zones is intended to protect personnel, vessels, and the marine environment in these navigable waters before, during, and after the scheduled events. No vessel or person will be permitted to enter the safety zone without obtaining permission from the COTP or a designated representative.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the size, location, duration, and time-of-day of the safety zone. The Coast Guard will be issuing Broadcast Notice to Mariners via VHF-FM marine channel 16 about the zones, and the rule would allow vessels to seek permission to enter the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves five safety zone lasting only 3 hours each that will prohibit entry within 1000 feet of the pyrotechnics platform used for the firework events. It is categorically excluded from further review under paragraph L60(a) of Appendix A, Table 1 of DHS Instruction Manual 023-01-001-01, Rev. 1. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places, or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. Add § 165.T11-0496 to read as follows:

§ 165.T11-0496 Safety Zones; Fourth of July Events for the Los Angles Long Beach Captain of the Port Zone.

(a) Location. The following areas are a safety zone: All waters from surface to bottom, within a 1000-foot radius of the designated firework display platforms located in the following locations. Bel Air Bay on July 3, 2024 located in approximate position 34°02′08.3″ N/118°32′44.5″ W; Newport Beach on July 4, 2024, located in approximate position 33°35′28.4″ N/117°53′17.8″ W; Long Beach Carnival Cruise Terminal Dock on July 4, 2024, in approximate position 33°45′06.8″ N 118°11′13.7″ W; Three Arch Bay on July 5, 2024 located in approximate position 33°29′08.7″ /117°44′21.2″ W; and Two Harbors on July 6, 2024, located in approximate position 33°26′45.4″ N/118°29′37.1″ W. These coordinates are based on the North American Datum of 1983.

(b) Definitions. As used in this section, designated representative means a Coast Guard Patrol Commander, including a Coast Guard coxswain, petty officer, or other officer operating a Coast Guard vessel and a Federal, State, and local officer designated by or assisting the Captain of the Port Sector Los Angeles-Long Beach (COTP) in the enforcement of the safety zone.

(c) Regulations. (1) Under the general safety zone regulations in subpart C of this part, you may not enter the safety zone described in paragraph (a) of this section unless authorized by the COTP or the COTP's designated representative.

(2) To seek permission to enter, contact the PATCOM, the COTP's representative, by VHF-FM Channel 13 (156.65 MHz) or 16 (156.8 MHz). Those in the safety zone must comply with all lawful orders or directions given to them by the COTP or the COTP's designated representative.

(d) Enforcement period. This section will be enforced during the following dates and times: July 3, 2024, Pacific Palisades in Bel Air Bay, CA from 8:00 p.m. to 11:00 p.m.; July 4, 2024, Newport Beach, CA from 8:00 p.m. to 11:00 p.m.; July 4, 2024, Long Beach Carnival Cruise Terminal from 8:00 p.m. to 11:00 p.m.; July 5, 2024, South Laguna in Three Arch Bay, CA from 8:00 p.m. to 11:00 p.m.; And July 6, 2024, Catalina Island in Two Harbors, CA from 8:00 p.m. to 11:00 p.m.

Dated: June 12, 2024.
S.L. Crecy,
Captain, U.S. Coast Guard, Captain of the Port Los Angeles—Long Beach.

[FR Doc. 2024-13341 Filed 6-17-24; 8:45 am]

BILLING CODE 9110-04-P